INTER-AMERICAN FOUNDATION

Sunshine Act Meetings

Time and Date: March 10, 2017, 4:00 p.m.-6:00 p.m.

Place: Dentons US LLC., 1900 K Street NW., Washington, DC 20006.

Status: Meeting of the Board of Directors, Closed to the Public as provided by 22 CFR 1004.4(f).

Matters to be Considered:

Executive Session

Portion to be Closed to the Public:

Executive session to discuss recruitment of President/CEO—closed session as provided by 22 CFR 1004.4(f)

Contact Person for More Information: Paul Zimmerman, General Counsel, (202) 683-7118.

Paul Zimmerman,
General Counsel.

[FR Doc. 2017-04184 Filed 2-28-17; 4:15 pm]

BILLING CODE 7025-01-P